DEPARTMENT OF INTERIOR

Bureau of Land Management

[LLCOF03000 L16100000.DU0000]

Notice of Intent To Amend the Resource Management Plan for the San Luis Resource Area, Colorado, and Associated Environmental Assessment

AGENCY: Bureau of Land Management, Interior.

ACTION: Notice of Intent.

SUMMARY: In compliance with the National Environmental Policy Act of 1969 (NEPA), as amended, and the Federal Land Policy and Management Act of 1976 (FLPMA), as amended, the Bureau of Land Management (BLM) San Luis Valley Public Lands Center, Monte Vista, Colorado, intends to prepare a Resource Management Plan (RMP) Amendment with an associated Environmental Assessment (EA) and by this notice is announcing the beginning of the scoping process to solicit public comments and identify issues.

DATES: This notice initiates the public scoping process for the RMP amendment and associated EA. Comments on issues and planning criteria may be submitted in writing by November 10, 2011. The date(s) and location(s) of any scoping meetings will be announced at least 15 days in advance through local media and newspapers. In order to be included in the RMP amendment and associated EA, all comments must be received prior to the close of the 30 day scoping period or 30 days after the last public meeting, whichever is later. We will provide additional opportunities for public participation upon publication of the Draft RMP amendment and associated EA.

ADDRESSES: You may submit comments related to the proposed RMP amendment by any of the following methods:

• E-mail: slvplc_comments@blm.gov.

• Fax: 719-852-6250

• Mail: BLM, La Jara Field Office, 15571, County Road T-5, La Jara, Colorado 81140-9579.

Documents pertinent to this plan amendment and associated EA may be examined at the La Jara Field Office.

FOR FURTHER INFORMATION CONTACT: For further information and/or to have your name added to our mailing list, contact Jill Lucero, Interdisciplinary Team Lead, (719) 274-6327; see address above; e-mail jlucero@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM La Jara Field Office La Jara, Colorado, intends to prepare an RMP amendment and associated EA for the San Luis Valley Public Lands Center, announces the beginning of the scoping process, and seeks public input on issues and planning criteria. The EA will analyze the BLM proposal to amend the San Luis Resource Area (SLRA) Resource Management Plan (RMP) of September 1991, to expand the Blanca Wetlands Area of Critical Environmental Concern (ACEC) and to analyze the terms, along with the compatibility and suitability, of three grazing allotments—one allotment within the Blanca Wetlands ACEC (Blanca allotment) and two allotments adjacent to the current ACEC (Lakes and Dry Lakes allotments). The purpose of the public scoping process is to determine relevant issues that will influence the scope of the environmental analysis, including alternatives, and guide the process for amending the RMP. The RMP amendment and associated EA will specifically address resources in the project area that may be affected. The BLM welcomes public comments concerning the RMP amendment and associated EA and on the following proposed planning criteria:

1. The BLM intends to continue to manage the SLRA in accordance with FLPMA, (43 U.S.C. 1701. et seq.), other applicable laws and regulations, and all existing public land laws.

2. The BLM intends to use a collaborative, multi-jurisdictional approach with local, state, tribal and Federal agencies to jointly determine the desired future condition of public lands and provide consistency with existing plans and policies to the extent that those plans and policies are consistent with Federal law governing the administration of public land.

3. The BLM intends to limit its RMP amendment to enlarging the Blanca Wetlands ACEC and analyzing the three range allotments (Lakes, Dry Lakes and Blanca).

4. The BLM intends to address the socioeconomic impacts of the alternatives.

5. The amendment process will follow the NEPA planning process and will include an EA. If a Finding of No Significant Impact cannot be reached, an EIS will follow.

At present, the BLM has identified the following preliminary issues concerning the RMP amendment and associated EA. The BLM welcomes public comments on potential issues in addition to those identified here:

1. Compatibility of grazing with wetland habitat and waterbird production;

2. Need for restoration and connectivity of wetland habitat;

3. Impacts to cultural resources;

4. Impacts to mineral resource production;

5. Potential for recreational development and conflicts in priorities between recreation and wildlife.

The BLM will use and coordinate the NEPA commenting process to help fulfill the public involvement process under Section 106 of the National Historic Preservation Act (16 U.S.C. 470f) as provided for in 36 CFR 800.2(d)(3). Native American tribal consultations will be conducted in accordance with policy, and tribal concerns will be given due consideration, including impacts on Indian trust assets. Federal, state and local agencies, and tribes—along with other stakeholders that may be interested or affected by the BLM's decision on this project—are invited to participate in the scoping process and, if eligible, may request or be contacted by the BLM to participate as a cooperating agency. You may submit comments on issues and planning criteria in writing to the BLM at any public scoping meeting, or you may submit them to the BLM using one of the methods listed in the ADDRESSES section above. To be most helpful, you should submit comments by the close of the 30 day scoping period or within 30 days after the last public meeting, whichever is later. Before including your address, phone number, e-mail address, or other personal identifying information in your comment, you should be aware that your entire comment—including your personal identifying information—may be made publicly available at any time. While you can ask us in your comment to withhold your personal identifying information from public review, we cannot guarantee that we will be able to do so.

The BLM will use an interdisciplinary approach to develop the RMP amendment in order to consider the resource issues and concerns identified during public scoping. The planning process will include specialists with expertise in rangeland management, minerals and geology, forestry, outdoor recreation, archaeology, botany, wildlife, fisheries, lands and realty, hydrology, soils, vegetation and fire.

Authority: 40 CFR 1501.7 and 43 CFR 1610.2.

John Mehlhoff,
Acting Colorado State Director.

[FR Doc. 2011-26183 Filed 10-7-11; 8:45 am]

BILLING CODE 4310-JB-P